DEPARTMENT OF LABOR

Employment and Training Administration

[TA-W-72,873, TA-W-72,873G, TA-W-72,873H, TA-W-72,873I, TA-W-72,873J, TA-W-72,873K]

Citizens Bank, N.A., et al.: Business Services, Including On-Site Leased Workers of Manpower and Randstad; Amended Certification Regarding Eligibility To Apply for Worker Adjustment Assistance

In accordance with Section 223 of the Trade Act of 1974, as amended (“Act”), 19 U.S.C. 2273, the Department of Labor issued a Certification of Eligibility to Apply for Worker Adjustment Assistance on January 21, 2010, applicable to the workers of RBS Citizens, N.A., Business Services Division, at multiple locations across Rhode Island, Massachusetts, Ohio, New Jersey and Pennsylvania. The notice will be published in the Federal Register soon.

At the request of a company official, the Department reviewed the certification for workers of the subject firm. The workers are engaged in activities related to the supply of internal administrative services.

New findings show that worker separations occurred at the above listed locations of the subject firm during the relevant time period.

Accordingly, the Department is amending this certification to include workers of the RBS Citizens, N.A. located in Bridgeport, Connecticut; Warwick, Rhode Island; and Glen Allen, Pennsylvania and the Citizens Bank of Pennsylvania (locations in Pennsylvania are part of Citizens Bank of Pennsylvania) located in Pittsburgh, Pennsylvania.

The intent of the Department's certification is to include all workers of the subject firm who were adversely affected by the shift in services.

The amended notice applicable to TA-W-72,873 is hereby issued as follows:

All workers of RBS Citizens, N.A., Business Services Division, including on-site leased workers of Manpower and Randstad, 1 Citizens Drive, Riverside, Rhode Island (TA-W-72,873); 10 Tripps Lane, Riverside, Rhode Island (TA-W-72,873A); 100 Sockanosset Cross Road, Cranston, Rhode Island (TA-W-72,873B); 20 Cabot Road, Medford, Massachusetts (TA-W-72,873C); 4780 Hinckley Industrial Parkway, Cleveland, Ohio (TA-W-72,873D); 499 Washington Boulevard, Jersey City, New Jersey (TA-W-72,873E); 1000 Lafayette Boulevard, Bridgeport, Connecticut (TA-W-72,873G); 443 Jefferson Boulevard, Warwick, Rhode Island (TA-W-72,873H); 480 Jefferson Boulevard, Warwick, Rhode Island (TA-W-72,873I); 10561 Telegraph Road, Glen Allen, Virginia (TA-W-72,873J); Citizens Bank of Pennsylvania, Business Services Division, including on-site leased workers of Manpower and Randstad, 801 Market Street, Philadelphia, Pennsylvania (TA-W-72,873F); and 525 William Penn Place, Pittsburg, Pennsylvania (TA-W-72,873K) who became totally or partially separated from employment on or after November 16, 2008, through January 21, 2012, and all workers in the group threatened with total or partial separation from employment on date of certification through two years from the date of certification, are eligible to apply for adjustment assistance under Chapter 2 of Title II of the Trade Act of 1974, as amended.

Signed in Washington, DC, this 2nd day of March 2010.
Richard Church,
Certifying Officer, Division of Trade Adjustment Assistance.

[FR Doc. 2010-5312 Filed 3-11-10; 8:45 am]

BILLING CODE 4510-FN-P